DEPARTMENT OF THE INTERIOR

National Park Service

[NPS-WASO-NAGPRA-NPS0035006; PPWOCRADN0-PCU00RP14.R50000]

Notice of Inventory Completion: Oregon Historical Society, Portland, OR

AGENCY: National Park Service, Interior.

ACTION: Notice.

SUMMARY: In accordance with the Native American Graves Protection and Repatriation Act (NAGPRA), the Oregon Historical Society (OHS) has completed an inventory of human remains and associated funerary objects and has determined that there is a cultural affiliation between the human remains and associated funerary objects and Indian Tribes or Native Hawaiian organizations in this notice. The human remains and associated funerary objects were removed from Lincoln County, OR.

DATES: Repatriation of the human remains and associated funerary objects in this notice may occur on or after January 17, 2023.

ADDRESSES: Nicole Yasuhara, Oregon Historical Society, 1200 SW Park Avenue, Portland, OR 97205, telephone (503) 306-5238, email Nicole.Yasuhara@ohs.org.

SUPPLEMENTARY INFORMATION: This notice is published as part of the National Park Service's administrative responsibilities under NAGPRA. The determinations in this notice are the sole responsibility of the OHS. The National Park Service is not responsible for the determinations in this notice. Additional information on the determinations in this notice, including the results of consultation, can be found in the inventory or related records held by the OHS.

Description

Human remains representing, at minimum, one individual were removed from Lincoln County, OR. Based on newspaper reporting and first-hand accounts, in January of 1972, David Berry, Laura [Berry] Bernard, and George Thompson uncovered and removed skeletal remains and associated funerary objects from the Oregon Coast, near the mouth of the Salmon River, south of Cascade Head, in Lincoln County. Shortly afterward, the collection was transferred to the OHS for identification, and it remained at the OHS—neither accessioned nor catalogued—until its discovery in 2018. No known individual was identified. The eight associated funerary objects are one pipe bowl featuring figure of mustached, turbaned male head; one 10″ rusted blade, detached from handle; one wooden handle, likely associated with blade; one lot of buttons (three black, two large white, and five small white); one lot of ceramics (including one mostly intact dish, five larger pieces comprised of several sherds glued together, and 27 sherds); one small, clear glass fragment; one lot of arrowhead and arrowhead fragments; and one lot of various materials (includes several small bags of various materials (possibly sand, rocks, wood, etc.)).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and expert opinion.

Determinations

Pursuant to NAGPRA and its implementing regulations, and after consultation with the appropriate Indian Tribes and Native Hawaiian organizations, the OHS has determined that:

• The human remains described in this notice represent the physical remains of one individual of Native American ancestry.

• The eight objects described in this notice are reasonably believed to have been placed with or near individual human remains at the time of death or later as part of the death rite or ceremony.

• There is a relationship of shared group identity that can be reasonably traced between the human remains and associated funerary objects described in this notice and the Confederated Tribes of Siletz Indians of Oregon (previously listed as Confederated Tribes of the Siletz Reservation).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 17, 2023. If competing requests for repatriation are received, the OHS must determine the most appropriate requestor prior to repatriation. Requests for joint repatriation of the human remains and associated funerary objects are considered a single request and not competing requests. The OHS is responsible for sending a copy of this notice to the Indian Tribe identified in this notice.

Authority: Native American Graves Protection and Repatriation Act, 25 U.S.C. 3003, and the implementing regulations, 43 CFR 10.9, § 10.10, and § 10.14.

Dated: December 7, 2022.
Melanie O'Brien,
Manager, National NAGPRA Program.

[FR Doc. 2022-27180 Filed 12-14-22; 8:45 am]

BILLING CODE 4312-52-P